DEPARTMENT OF LABOR

Employment and Training Administration

[TA-W-64,459]

Entegris, Inc., Chaska, MN; Notice of Termination of Investigation

Pursuant to Section 221 of the Trade Act of 1974, as amended, an investigation was initiated on November 18, 2008 in response to a petition filed by a Minnesota State Workforce Office on behalf of workers of Entegris, Inc., Chaska, Minnesota.

The petitioner has requested that the petition be withdrawn. Consequently, the investigation has been terminated.

Signed in Washington, DC, this 5th day of December 2008.
Elliott S. Kushner,
Certifying Officer, Division of Trade Adjustment Assistance.

[FR Doc. E8-29617 Filed 12-12-08; 8:45 am]

BILLING CODE 4510-FN-P